ENVIRONMENTAL PROTECTION AGENCY

[FRL-7125-7]

Valley Chemical Superfund Site/Greenville, Mississippi; Notice of Proposed Settlement

AGENCY: Environmental Protection Agency.

ACTION: Notice of proposed settlement.

SUMMARY: Under section 122(h)(1) of the Comprehensive Environmental Response, Compensation, and Liability Act (CERCLA), the Environmental Protection Agency (EPA) has proposed to amend the Agreement for Recovery of Response Costs, CERCLA Docket No. CER-04-2001-3755, in settlement of claims for response costs at the Valley Chemical Superfund Site (Site) located in Greenville, Mississippi, with Valley Chemical Company. EPA will consider public comments on the proposed settlement amendment for thirty days. EPA may withdraw from or modify the proposed settlement amendment should such comments disclose facts or considerations which indicate the proposed settlement amendment is inappropriate, improper, or inadequate. Copies of the proposed settlement amendment are available from: Ms. Paula V. Batchelor, U.S. Environmental Protection Agency, Region IV, Waste Management Division, 61 Forsyth Street, SW., Atlanta, Georgia 30303, (404) 562-8887.

Written comment may be submitted to Mr. Greg Armstrong at the above address within 30 days of the date of publication.

Dated: December 18, 2001.
James T. Miller,
Acting Chief, CERCLA Program Services Branch, Waste Management Division.

[FR Doc. 02-220 Filed 1-3-02; 8:45 am]

BILLING CODE 6560-50-P